DEPARTMENT OF THE INTERIOR

Bureau of Land Management

[LLAZG02200.L16100000.DO0000.LXSS206A0000]

Notice of Intent To Prepare a Resource Management Plan for the San Pedro Riparian National Conservation Area and Associated Environmental Impact Statement, Arizona

AGENCY: Bureau of Land Management, Interior.

ACTION: Notice of intent.

SUMMARY: In compliance with the National Environmental Policy Act of 1969 (NEPA), as amended, the Federal Land Policy and Management Act of 1976 (FLPMA), as amended, and the Arizona-Idaho Conservation Act of 1988 (creating the San Pedro National Conservation Area), the Bureau of Land Management (BLM) Tucson Field Office, Tucson, Arizona, intends to prepare a Resource Management Plan (RMP) with an associated Environmental Impact Statement (EIS) for the San Pedro Riparian National Conservation Area (SPRNCA) and by this notice is announcing the beginning of the scoping process to solicit public comments and identify issues. The RMP will replace the existing Safford RMP decisions for the BLM land within the planning area.

DATES: This notice initiates the public scoping process for the RMP with associated EIS. Scoping will begin when the notice is published and extend for at least 90 days. The date(s) and location(s) of any scoping meetings have not yet been determined. All public meetings will be announced at least 15 days in advance through local media, newspapers, and the BLM Web site at: http://www.blm.gov/az/st/en/fo/tucson_field_office.html. The BLM will accept scoping comments throughout the planning effort. However, in order to be included in the Scoping Report, comments must be received prior to the close of the 90-day scoping period. Documentation of public meetings and all scoping comments received will be available in the public room of the BLM Tucson Field Office for public inspection and for any participant who wishes to clarify the views they have expressed. Additional opportunities for public participation will be provided throughout the process.

ADDRESSES: You may submit comments on issues and planning criteria related to the SPRNCA RMP/EIS by any of the following methods:

• Email: blm_az_tfo_sprnca_rmp@blm.gov.

• Fax: 520-258-7238.

• Mail: Bureau of Land Management Tucson Field Office, 3201 East Universal Way, Tucson, AZ 85756.

Documents pertinent to this proposal may be examined at the Tucson Field Office.

FOR FURTHER INFORMATION CONTACT: Amy Markstein, Assistant Planner, telephone 520-258-7231; address 3201 East Universal Way, Tucson, AZ 85756; email amarkstein@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: This document provides notice that the BLM Tucson Field Office, Tucson, Arizona, intends to prepare an RMP with an associated EIS for the SPRNCA, announces the beginning of the scoping process, and seeks public input on issues and planning criteria. The planning effort is focused on the SPRNCA, which encompasses 56,431 acres of public land located within Cochise County, Arizona. The planning area boundary (geographic extent of the planning area) has not yet been determined, and is an issue that will be considered during scoping. Decisions in the RMP will be limited to BLM-administered land within the planning area boundary. The purpose of the public scoping process is to determine relevant issues that will influence the scope of the environmental analysis including the planning area boundary and alternatives to be considered. Preliminary issues for the planning area have been identified by the BLM personnel; Federal, State, and local agencies; and other stakeholders.

The planning effort is needed to provide direction for the long-range management and protection of the SPRNCA's resources, including aquatic; wildlife; archaeological; paleontological; scientific; cultural; educational; and recreational resources and values, as stated in Public Law 100-696 and codified at 16 U.S.C. 460xx.

The purpose of the RMP is to identify the current management situation, desired future conditions to be maintained or achieved, and management actions necessary to achieve those objectives for the aforementioned resources.

The issues include:

• The geographic extent of the planning area (the planning area boundary);

• Desired future conditions for water quantity;

• Desired future conditions for riparian and upland plant communities;

• Management of riparian vegetation along the San Pedro River;

• SPRNCA's designation as a Globally Important Bird Area;

• Determining which areas should be open and closed to grazing;

• Use restrictions for resource protection; and

• Management of resources near the urban interface.

Preliminary planning criteria include:

• The RMP will comply with FLPMA, NEPA, and all other applicable laws, regulations, and policies.

• Program specific guidance for decisions at the land use planning level. The process will follow the BLM's policies in Appendix C of the Land Use Planning Handbook, H-1610-1.

• The RMP will recognize all valid existing rights.

• The RMP will meet the requirements of the Arizona-Idaho Conservation Act of 1988 (Pub. L. 100-696) to conserve, protect, and enhance the riparian area and the aquatic, wildlife, archaeological, paleontological, scientific, cultural, educational, and recreational resources of the conservation area.

• The RMP will not address any National Conservation Area boundary adjustments or proposals to change Public Law 100-696.

• The BLM will conduct government to government consultation with affiliated Native American tribes in accordance with Executive Order 13175.

• The planning process will include the consideration of any impacts on Native American Trust assets.

• The RMP decisions will comply with the Endangered Species Act (and be consistent with BLM Manual 6840 Special Status Species) and follow interagency agreements with the Fish and Wildlife Service regarding Section 7 Consultation and species recovery process.

• Coordination with the Arizona State Historic Preservation Office will be conducted throughout the planning process.

• The RMP will recognize Arizona Game and Fish Department's authority to manage wildlife, including hunting and fishing, within the planning area pursuant to the master memorandum of understanding (MOU) with the Arizona Game and Fish Commission establishing coordination and cooperation between agencies.

You may submit comments on issues and planning criteria in writing to the BLM at any public scoping meeting, or you may submit them to the BLM using one of the methods listed in the ADDRESSES section above. The BLM will accept scoping comments throughout the planning effort. However, in order to be included in the Scoping Report, comments must be received prior to the close of the 90-day scoping period. Documentation of public meetings and all scoping comments received will be available in the public room of the BLM Tucson Field Office for public inspection and for any participant who wishes to clarify the views they have expressed. Before including your address, phone number, email address, or other personal identifying information in your comment, you should be aware that your entire comment—including your personal identifying information—may be made publicly available at any time. While you can ask us in your comment to withhold your personal identifying information from public review, we cannot guarantee that we will be able to do so. The BLM will evaluate identified issues to be addressed in the plan and will place them into one of three categories:

1. Issues to be resolved in the plan;

2. Issues to be resolved through policy or administrative action; or

3. Issues beyond the scope of this plan.

The BLM will provide an explanation in the Draft RMP/Draft EIS as to why an issue was placed in category two or three. The public is also encouraged to help identify any management questions and concerns that should be addressed in the plan. The BLM will work collaboratively with interested parties to identify the management decisions that are best suited to local, regional, and national needs and concerns.

The BLM will use information about historic and cultural resources within the planning area in identifying and evaluating impacts to such resources in the context of both NEPA and Section 106 of the NHPA.

The BLM will consult with Indian tribes on a government-to-government basis in accordance with Executive Order 13175 and other policies. Tribal concerns, including impacts on Indian trust assets and potential impacts to cultural resources, will be given due consideration. Federal, State, and local agencies, along with tribes and other stakeholders that may be interested in or affected by the proposed action that the BLM is evaluating, are invited to participate in the scoping process and, if eligible, may request or be requested by the BLM to participate in the development of the environmental analysis as a cooperating agency.

The BLM will use an interdisciplinary approach to develop the plan in order to consider the variety of resource issues and concerns identified. Specialists with expertise in the following disciplines will be involved in the planning process: Rangeland management, outdoor recreation, archaeology, paleontology, wildlife, fisheries, lands and realty, hydrology, sociology, and economics.

Authority: 40 CFR 1501.7, 43 CFR 1610.2

Raymond Suazo,
State Director.

[FR Doc. 2013-10058 Filed 4-29-13; 8:45 am]

BILLING CODE 4310-32-P